OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: Glenda Haendschke, Acting Group Manager, Executive Resources Services Group, Center for Human Resources, Division for Human Capital Leadership and Merit System Accountability, 202-606-2246.

SUPPLEMENTARY INFORMATION: Appearing in the listing below are the individual authorities established under Schedules A, B, and C between April 1, 2009, and April 30, 2009. Future notices will be published on the fourth Tuesday of each month, or as soon as possible thereafter. A consolidated listing of all authorities as of June 30 is published each year. The following Schedules are not codified in the Code of Federal Regulations. These are agency specific exceptions.

Schedule A

The Schedule A authority is amended to read:

Section 213.3106(l) Special Inspector General for Afghanistan Reconstruction

(1) Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed 3 years and may, with prior approval of OPM, be extended for an additional period of 2 years. No new appointments may be made under this authority after January 31, 2011.

Schedule B

No Schedule B appointments were approved for April 2009.

Schedule C

The following Schedule C appointments were approved during April 2009.

Office of Management and Budget

BOGS90010 Confidential Assistant to the Director. Effective April 20, 2009.

BOGS90011 Confidential Assistant to the Chief of Staff. Effective April 20, 2009.

BOGS90012 Special Assistant to the Deputy Director. Effective April 20, 2009.

BOGS90014 Special Assistant to the Director. Effective April 20, 2009.

BOGS90015 Special Assistant to the Director. Effective April 20, 2009.

BOGS90018 Confidential Assistant to the Associate Director for National Security Programs. Effective April 20, 2009.

BOGS90019 Confidential Assistant to the Associate Director for Education, Income Maintenance and Labor. Effective April 20, 2009.

BOGS90020 Confidential Assistant to the Associate Director for Natural Resource Programs. Effective April 20, 2009.

BOGS90021 Confidential Assistant to the Deputy Director. Effective April 20, 2009.

BOGS90022 Confidential Assistant to the Associate Director, Strategic Planning and Communications. Effective April 20, 2009.

BOGS90023 Confidential Assistant to the Associate Director for Health. Effective April 20, 2009.

BOGS90024 Confidential Assistant to the Associate Director for Legislative Affairs. Effective April 20, 2009.

BOGS90025 Special Assistant to the Director. Effective April 28, 2009.

BOGS90026 Confidential Assistant to the Associate Director for Education, Income Maintenance and Labor. Effective April 28, 2009.

BOGS90027 Confidential Assistant to the Associate Administrator. Effective April 28, 2009.

Office of Personnel Management

PMGS31263 Senior Advisor to the Director. Effective April 9, 2009.

PMGS31267 Senior Advisor to the Director. Effective April 9, 2009.

Office of Science and Technology Policy

TSGS09001 Executive Assistant to the President for Science and Technology. Effective April 7, 2009.

Office of the United States Trade Representative

TNGS00007 Public Affairs Specialist for Public and Media Affairs. Effective April 23, 2009.

Presidents' Commission on White House Fellowships

WHGS31270 Associate Director for President's Commission on White House Fellowships. Effective April 9, 2009.

WHGS31271 Staff Assistant for President's Commission on White House Fellowships. Effective April 9, 2009.

WHGS31288 Education Director, for President's Commission on White House Fellowships. Effective April 20, 2009.

Department of State

DSGS69845 Deputy Chief of Staff for the Secretary of State. April 16, 2009.

DSGS69857 Staff Assistant to the Under Secretary for Management. Effective April 16, 2009.

DSGS69860 Staff Assistant to the Secretary of State. Effective April 16, 2009.

DSGS69864 Staff Assistant for the Deputy Chief of Staff for Operations. Effective April 16, 2009.

DSGS69847 Deputy Director for Policy Planning Staff. Effective April 17, 2009.

DSGS69848 Executive Assistant for the Deputy Secretary. Effective April 17, 2009.

DSGS69850 Staff Assistant for the Under Secretary for Management. Effective April 17, 2009.

DSGS69851 Staff Assistant for the Secretary of State. Effective April 17, 2009.

DSGS69852 Special Assistant for Public Diplomacy and Public Affairs. Effective April 17, 2009.

DSGS69853 Staff Assistant for the Bureau of Educational and Cultural Affairs. Effective April 17, 2009.

DSGS69854 Policy Advisor/Chief Speechwriter for Policy Planning Staff. Effective April 17, 2009.

DSGS69858 Senior Advisor for Public Affairs. Effective April 17, 2009.

DSGS69859 Protocol Officer Visits to the Chief of Protocol. Effective April 17, 2009.

DSGS69861 Staff Assistant to the Under Secretary for Management. Effective April 17, 2009.

DSGS69862 Special Assistant for the Legal Advisor. Effective April 17, 2009.

DSGS69863 Deputy Chief of Staff for Policy for the Secretary of State. Effective April 17, 2009.

DSGS69865 Special Assistant for the Chief of Staff/Counselor. Effective April 17, 2009.

DSGS69868 Deputy Assistant Secretary—House for Legislative and Intergovernmental Affairs. Effective April 27, 2009.

DSGS69869 Legislative Management Officer, Legislative and Intergovernmental Affairs. Effective April 27, 2009.

Department of the Treasury

DYGS00359 Senior Advisor for the Under Secretary for International Affairs. Effective April 1, 2009.

DYGS00513 Senior Advisor for the Counselor to the Secretary. Effective April 9, 2009.

DYGS00496 Senior Advisor, Business Affairs and Public Liaison. Effective April 10, 2009.

DYGS00514 Special Assistant for the Deputy Secretary of the Treasury. Effective April 10, 2009.

DYGS60317 Public Affairs Specialist for the Assistant Secretary (Public Affairs). Effective April 10, 2009.

DYGS00436 Public Affairs Specialist for Public Affairs. Effective April 24, 2009.

DYGS00483 Senior Advisor for the Assistant Secretary (Terrorist Financing). Effective April 24, 2009.

DYGS00487 Deputy Executive Secretary. Effective April 28, 2009.

Department of Defense

DDGS17131 Special Assistant for the Assistant Secretary for Defense (Special Operations/Low Intensity Conflict and Interdependent Capabilities). Effective April 1, 2009.

DDGS17192 Special Assistant for Strategy, Plans and Forces for Defense (Strategy, Plans, and Forces). Effective April 1, 2009.

DDGS17195 Special Assistant for the Under Secretary of Defense (Comptroller). Effective April 2, 2009.

DDGS17196 Principal Director (African Affairs) for Defense (Africa). Effective April 2, 2009.

DDGS17201 Staff Assistant for Public Affairs (Press Secretary). Effective April 6, 2009.

DDGS17193 Principal Director, Western Hemisphere for Defense (Western Hemisphere Affairs). Effective April 7, 2009.

DDGS17157 Special Assistant to the Deputy Under Secretary for Defense (Budget and Appropriations Affairs). Effective April 9, 2009.

DDGS17197 Senior Advisor to the Under Secretary for Defense for Policy. Effective April 9, 2009.

DDGS17200 Principal Director to Central Asia. Effective April 9, 2009.

DDGS17203 Advance Officer to the Secretary and Deputy Secretary. Effective April 16, 2009.

DDGS17204 Confidential Assistant to the Deputy Secretary for Defense. Effective April 16, 2009.

DDGS17205 Special Assistant to the Assistant Secretary of Defense for Homeland Defense and Americas' Security Affairs. Effective April 17, 2009.

DDGS17206 Special Assistant to the Deputy Under Secretary for Defense (Budget and Appropriations Affairs). Effective April 28, 2009.

DDGS17207 Defense Fellow for the White House Liaison. Effective April 28, 2009.

DDGS17209 Special Assistant to the Under Secretary for Defense (Acquisition, Technology, and Logistics). Effective April 29, 2009.

Department of the Army

DWGS60095 Special Assistant to the Principal Deputy Assistant Secretary for the Army (Legislation). Effective April 27, 2009.

Department of the Navy

DNGS09030 Residential Manager and Social Secretary to the Vice President for the Navy. Effective April 8, 2009.

Department of Justice

DJGS00480 Confidential Assistant for the Assistant Attorney General. Effective April 2, 2009.

DJGS00488 Public Affairs Specialist, Office of Public Affairs. Effective April 2, 2009.

DJGS00143 Counsel for the Assistant Attorney General Criminal Division. Effective April 6, 2009.

DJGS00475 Director of Advance for the Attorney General. Effective April 6, 2009.

DJGS00485 Counsel to the Attorney General for Executive Branch Relations. Effective April 6, 2009.

DJGS00486 Counsel to the Attorney General. Effective April 6, 2009.

DJGS00489 Senior Counsel to the Deputy Attorney General. Effective April 6, 2009.

DJGS00482 Senior Advisor to the Director. Effective April 09, 2009.

DJGS00091 Staff Assistant to the Assistant Attorney General (Legislative Affairs). Effective April 10, 2009.

DJGS00200 Senior Counsel to the Assistant Attorney General Criminal Division. Effective April 15, 2009.

DJGS00492 Counsel to the Deputy Assistant Attorney General. Effective April 15, 2009.

DJGS00481 Confidential Assistant to the Assistant Attorney General Criminal Division. Effective April 17, 2009.

DJGS00493 Special Assistant to the Director. Effective April 17, 2009.

DJGS00494 Counsel to the Assistant Attorney General. Effective April 21, 2009.

DJGS00410 Senior Advisor to the Assistant Attorney General, for the Office of Justice Programs. Effective April 27, 2009.

Department of Homeland Security

DMGS00742 Deputy Secretary Briefing Book Coordinator for Operations and Administration. Effective April 28, 2009.

DMGS00507 Special Assistant to the Assistant Secretary for Policy. Effective April 17, 2009.

DMGS00552 Confidential Legal Assistant to the General Counsel. Effective April 28, 2009.

DMGS00580 Associate Director of Strategic Communications for Public Affairs. Effective April 17, 2009.

DMGS00600 Confidential Assistant to the Under Secretary for Protocol and Advance Briefings for the Under Secretary for Science and Technology. Effective April 17, 2009.

DMGS00697 Special Assistant for Policy. Effective April 17, 2009.

DMGS00773 Confidential Assistant to the Assistant Secretary for Legislative Affairs. Effective April 17, 2009.

DMGS00775 Special Assistant to the Director, United States Citizenship and Immigration Services. Effective April 17, 2009.

DMGS00776 Confidential Assistant to the Assistant Secretary for Policy. Effective April 17, 2009.

DMGS00787 Director for Local Affairs for Intergovernmental Programs. Effective April 17, 2009.

DMGS00777 Director of Strategy and Planning for Legislative Affairs. Effective April 28, 2009.

DMGS00778 Correspondence Liaison Officer for the Executive Director for Operations and Administration. Effective April 28, 2009.

DMGS00780 Advance Representative to the Director of Scheduling and Advance. Effective April 28, 2009.

DMGS00781 Special Assistant to the Under Secretary for Science and Technology. Effective April 28, 2009.

DMGS00782 Special Assistant to the Deputy Assistant Secretary for International Affairs (Policy). Effective April 28, 2009.

DMGS00784 Correspondence Liaison Officer for Operations and Administration. Effective April 28, 2009.

DMGS00801 Deputy Assistant Secretary for Policy. Effective April 28, 2009.

Department of the Interior

DIGS01154 Director of News Media for Congressional and Legislative Affairs. Effective April 1, 2009.

DIGS01157 Special Assistant to the Counselor for the Secretary. Effective April 15, 2009.

DIGS01158 Special Assistant to the Secretary. Effective April 21, 2009.

Department of Agriculture

DAGS00109 Special Assistant to the Administrator, for Food and Nutrition Service. Effective April 6, 2009.

DAGS00111 Special Assistant to the Administrator, for Food and Nutrition Service. Effective April 6, 2009.

DAGS00120 Deputy Press Secretary for the Office of Communications. Effective April 14, 2009.

DAGS00119 Senior Advisor for Labor Relations for Congressional Relations. Effective April 15, 2009.

DAGS00121 Confidential Assistant to the Deputy Under Secretary for Rural Development. Effective April 21, 2009.

DAGS00126 Senior Policy Analyst to the Administrator, Farm Service Agency. Effective April 21, 2009.

DAGS00123 Confidential Assistant to the Chief, Natural Resources Conservation Service. Effective April 30, 2009.

DAGS00125 Senior Advisor to the Administrator for Risk Management. Effective April 30, 2009.

DAGS00129 Confidential Assistant to the Administrator, Agricultural Marketing Service. Effective April 30, 2009.

Department of Commerce

DCGS00237 Special Assistant to the Under Secretary for International Trade. Effective April 1, 2009.

DCGS00576 Director of Advance for the Director of Scheduling and Advance. Effective April 1, 2009.

DCGS00593 Senior Advisor to the Chief of Staff. Effective April 2, 2009.

DCGS00628 Confidential Assistant to the Director of Scheduling and Advance. Effective April 2, 2009.

DCGS00189 Special Advisor to the Secretary for Office of Policy and Strategic Planning. Effective April 8, 2009.

DCGS00368 Legislative Affairs Specialist for the Director, Office of Legislative Affairs. Effective April 9, 2009.

DCGS00492 Advance Specialist for the Director of Advance. Effective April 10, 2009.

DCGS00460 Director of Intergovernmental Affairs for Legislative and Intergovernmental Affairs. Effective April 21, 2009.

DCGS00351 Confidential Assistant to the Deputy General Counsel. Effective April 22, 2009.

DCGS00199 Confidential Assistant for Legislative and Intergovernmental Affairs. Effective April 27, 2009.

DCGS00200 Legislative/Intergovernmental Specialist for Legislative and Intergovernmental Affairs. Effective April 27, 2009.

DCGS00599 Confidential Assistant for the Director of Communications. Effective April 29, 2009.

DCGS00333 Confidential Assistant, Office of Communications and Information. Effective April 30, 2009.

DCGS00485 Deputy Director for Faith Based and Neighborhood Partnerships. Effective April 30, 2009.

Department of Labor

DLGS60025 Senior Legislative Officer for Congressional and Intergovernmental Affairs. Effective April 2, 2009.

DLGS60017 Senior Legislative Officer for Congressional and Intergovernmental Affairs. Effective April 6, 2009.

DLGS60120 Senior Legislative Officer for Congressional and Intergovernmental Affairs. Effective April 6, 2009.

DLGS60175 Senior Advisor to the Deputy Assistant Secretary for Policy. Effective April 16, 2009.

DLGS60174 Special Assistant to the Director of Planning, Scheduling, and Advance. Effective April 21, 2009.

DLGS09039 Speech Writer for the Assistant Secretary for Public Affairs. Effective April 23, 2009.

DLGS60173 Chief of Staff to the Assistant Secretary for Disability Employment Policy. Effective April 23, 2009.

DLGS60180 Chief of Staff to the Assistant Secretary for Congressional and Intergovernmental Affairs. Effective April 23, 2009.

Department of Education

DBGS00394 Confidential Assistant to the Assistant Secretary for Elementary and Secondary Education. Effective April 6, 2009.

DBGS00597 Confidential Assistant to the Assistant Deputy Secretary. Effective April 6, 2009.

DBGS00900 Special Assistant to the Director, Academic Improvement and Teacher Quality Programs. Effective April 16, 2009.

DBGS00433 Deputy Assistant Secretary for External Affairs and Outreach Services for the Office of Communication Services. Effective April 17, 2009.

DBGS00549 Special Assistant to the Executive Administrator. Effective April 17, 2009.

DBGS00460 Deputy Assistant Secretary for Communication Development for the Office of Communications and Outreach. Effective April 23, 2009.

DBGS00499 Director, Intergovernmental Affairs to the Assistant Secretary, Office of Communications and Outreach. Effective April 23, 2009.

Environmental Protection Agency

EPGS08008 Program Manager (Scheduling) for the Deputy Chief of Staff (Operations). Effective April 15, 2009.

Department of Veterans Affairs

DVGS60001 Special Assistant to the Deputy Secretary of Veterans Affairs. Effective April 7, 2009.

Department of Energy

DEGS00739 Deputy Assistant Secretary for Intergovernmental and External Affairs. Effective April 1, 2009.

DEGS00740 Special Assistant to the Chief of Staff. Effective April 1, 2009.

DEGS00741 Special Assistant to the Senior Advisor. Effective April 10, 2009.

DEGS00743 Small Business Loan Guarantee Program Advisor. Effective April 29, 2009.

Small Business Administration

SBGS00662 Deputy Assistant Administrator for Congressional and Legislative Affairs. Effective April 9, 2009.

SBGS00667 Speechwriter for the Assistant Administrator for Communications and Public Liaison. Effective April 9, 2009.

SBGS00681 Special Assistant to the Associate Administrator for Capital Access. Effective April 9, 2009.

National Endowment for the Arts

NAGS00063 Deputy Congressional Liaison, Office of Government Affairs. Effective April 16, 2009.

National Endowment for the Humanities

NHGS60065 Special Assistant to the Chairman. Effective April 24, 2009.

Department of Housing and Urban Development

DUGS60436 Staff Assistant to the Chief of Staff. Effective April 1, 2009.

DUGS60186 Staff Assistant to the Chief of Staff. Effective April 2, 2009.

DUGS60121 Media Outreach Specialist for the Assistant Secretary for Public Affairs. Effective April 6, 2009.

DUGS60211 Advance Coordinator for the Director, Office of Executive Scheduling and Operations. Effective April 6, 2009.

DUGS60270 White House Liaison Assistant to the Secretary and White House Liaison. Effective April 6, 2009.

DUGS60354 Special Assistant to the Assistant Secretary for Housing, Federal Housing Commissioner. Effective April 6, 2009.

DUGS60389 Scheduling and Advance Coordinator. Effective April 6, 2009.

DUGS60437 Special Assistant to the Secretary, Housing and Urban Development. Effective April 6, 2009.

DUGS60621 Special Assistant for the Assistant Secretary for Policy Development and Research. Effective April 6, 2009.

DUGS60193 Media Specialist for the Chief of Staff. Effective April 10, 2009.

DUGS60204 General Deputy Assistant Secretary for Congressional and Intergovernmental Relations. Effective April 10, 2009.

DUGS60518 Special Assistant to the Deputy Secretary, Housing and Urban Development. Effective April 14, 2009.

DUGS60482 Director, Center for Faith Based and Community Initiatives. Effective April 15, 2009.

DUGS60514 Special Assistant to the Assistant Secretary for Housing, Federal Housing Commissioner. Effective April 21, 2009.

DUGS60340 Special Assistant to the Chief of Staff. Effective April 24, 2009.

DUGS60110 Staff Assistant to the Assistant Secretary for Housing, Federal Housing Commissioner. Effective April 30, 2009.

Department of Transportation

DTGS60054 Associate Director for Governmental Affairs. Effective April 6, 2009.

DTGS60274 Deputy Press Secretary for the Secretary and Director of Public Affairs. Effective April 6, 2009.

DTGS60311 Special Assistant for Scheduling and Advance to the Director of Scheduling and Advance. Effective April 8, 2009.

DTGS60326 Special Assistant to the Administrator. Effective April 8, 2009.

DTGS60337 Director of Communications. Effective April 8, 2009.

DTGS60342 Special Assistant for Scheduling and Advance. Effective April 8, 2009.

DTGS60257 Deputy Director of Public Affairs. Effective April 22, 2009.

DTGS60341 Associate Director for Governmental Affairs, Deputy Assistant Secretary for Governmental Affairs. Effective April 23, 2009.

DTGS60462 Associate Director for Public Liaison for the Deputy Director of Public Affairs. Effective April 27, 2009.

Authority: 5 U.S.C. 3301 and 3302; E.O. 10577, 3 CFR 1954-1958 Comp., p. 218.

U.S. Office of Personnel Management.
John Berry,
Director.

[FR Doc. E9-15660 Filed 7-1-09; 8:45 am]

BILLING CODE 6325-39-P